DEPARTMENT OF THE TREASURY

Office of the Comptroller of the Currency

12 CFR Part 30

[Docket ID OCC-2025-0339]

RIN 1557-AF40

Rescission of OCC Guidelines Establishing Standards for Recovery Planning by Certain Large Insured National Banks, Insured Federal Savings Associations, and Insured Federal Branches

AGENCY: Office of the Comptroller of the Currency (OCC), Treasury.

ACTION: Notice of proposed rulemaking.

SUMMARY: The OCC proposes amending 12 CFR part 30 by rescinding appendix E, OCC Guidelines Establishing Standards for Recovery Planning by Certain Large Insured National Banks, Insured Federal Savings, and Insured Federal Branches.

DATES: Comments must be received on or before December 18, 2025.

ADDRESSES: Commenters are encouraged to submit comments through the Federal eRulemaking Portal. Please use the title “Rescission of OCC Guidelines Establishing Standards for Recovery Planning by Certain Large Insured National Banks, Insured Federal Savings Associations, and Insured Federal Branches” to facilitate the organization and distribution of the comments. You may submit comments by any of the following methods:

• Federal eRulemaking Portal—Regulations.gov:

Go to https://regulations.gov. Enter Docket ID “OCC-2025-0339” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. EST or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and Docket ID “OCC-2025-0339” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov:

Go to https://regulations.gov. Enter Docket ID “OCC-2025-0339” in the Search Box and click “Search.” Click on the “Documents” tab and then the document's title. After clicking the document's title, click the “Browse Comments” tab. Comments can be viewed and filtered by clicking on the “Sort By” drop-down on the right side of the screen or the “Refine Results” options on the left side of the screen. Supporting materials can be viewed by clicking on the “Documents” tab and filtered by clicking on the “Sort By” drop-down on the right side of the screen or the “Refine Documents Results” options on the left side of the screen.” For assistance with the Regulations.gov site, please call 1-866-498-2945 (toll free) Monday-Friday, 9 a.m.-5 p.m. EST or email regulationshelpdesk@gsa.gov.

The docket may be viewed after the close of the comment period in the same manner as during the comment period.

FOR FURTHER INFORMATION CONTACT: Sean Young, Chief Counsel's Office, (202) 649-5490; Office of the Comptroller of the Currency, 400 7th Street SW, Washington, DC 20219. If you are deaf, hard of hearing, or have a speech disability, please dial 7-1-1 to access telecommunications relay services.

SUPPLEMENTARY INFORMATION:

I. Background

On September 29, 2016, the OCC issued Guidelines Establishing Standards for Recovery Planning by Certain Large Insured National Banks, Insured Federal Savings Associations, and Insured Federal Branches (Guidelines).¹ Under the Guidelines, an insured national bank, insured Federal savings association, or insured Federal branch subject to the standards (covered banks) should have a recovery plan that includes (1) quantitative or qualitative indicators of the risk or existence of severe stress that reflect its particular vulnerabilities; (2) a wide range of credible options that it could undertake in response to the stress to restore its financial strength and viability; and (3) an assessment and description of how these options would affect it. The Guidelines provide that a recovery plan should also address (1) the covered bank's overall organizational and legal entity structure and its interconnections and interdependencies; (2) procedures for escalating decision-making to senior management or the board of directors or an appropriate committee thereof (board); (3) management reports; (4) communication procedures; and (5) any other information the OCC communicates in writing. The Guidelines also set forth the responsibilities of management and the board with respect to the covered bank's recovery plan.

¹ 81 FR 66791 (Sept. 29, 2016). The Guidelines are codified at 12 CFR part 30, appendix E. They were issued pursuant to section 39 of the Federal Deposit Insurance Act, 12 U.S.C. 1831p-1, which authorizes the OCC to prescribe enforceable safety and soundness standards.

The 2016 Guidelines applied to banks with total consolidated assets of $50 billion or more. In 2018, the OCC amended the Guidelines to raise the threshold to $250 billion based on its view, at that time, that these larger, more complex, and potentially more interconnected banks presented greater systemic risk to the financial system and would benefit most from recovery planning.²

² 83 FR 66604 (Dec. 27, 2018).

In October 2024, the OCC amended the Guidelines to apply to banks with average total consolidated assets of $100 billion or more; incorporate a testing standard; and clarify the role of non-financial (including operational and strategic) risk in recovery planning.³

³ 89 FR 84255 (Oct. 22, 2024).

II. Recission of Guidelines

As a part of the ongoing assessment of the agency's supervisory framework to identify and eliminate unnecessary regulatory burden, the OCC is proposing to amend 12 CFR part 30 by rescinding the Guidelines contained in appendix E. The Guidelines cause covered banks to direct significant resources towards developing responsive documentation. In the OCC's experience, much of this documentation is, by its nature, scenario-dependent or otherwise conjectural and, therefore, is likely to be irrelevant or of limited utility when a covered bank faces stress. Appropriate recovery options and communication procedures, for example, may vary widely depending on the facts and circumstances of the particular stress scenario, including many that would be outside of the covered banks' control or ability to reliably predict. Likewise, impact assessments for such recovery options appear conjectural by nature and of limited utility in an actual stress scenario.

The OCC has also observed that covered banks are well attuned to indicia of stress without regard to the presence of the recovery planning triggers and escalation procedure expectations of the Guidelines. Moreover, the OCC is concerned that escalation or communication procedures or other actions tied to such triggers may be unnecessary or inappropriate under the particular facts and circumstances of a stress scenario.

More generally, the OCC believes that proper risk management should be a dynamic process that involves real-time responses to the facts and circumstances of a stress event or periods of stress. As such, the OCC would not necessarily expect adherence to recovery plans. Rather, the OCC would expect to closely monitor a covered bank as it assesses and responds to a stress event.⁴ Banks are in the business of risk management and are constantly assessing and adjusting their operations to adapt to evolving risk factors and conditions. Relieving covered banks of the obligation to engage in prescriptive recovery planning activities will further restore the risk management function to bank management's control and enhances resource availability that can be directed towards improving risk management operations and other productive activities.

⁴ Although the OCC does not intend to discourage covered banks from developing plans to address stress scenarios, the OCC does not expect to require or review the appropriateness of such plans, nor does it expect for the covered bank to adhere to such plan unless it is the most consistent with the bank's safe and sound operations under the circumstances.

Further, the OCC's existing safety and soundness standards require all insured depository institutions to have effective risk management processes, including in times of stress, that is commensurate with the size, complexity, and risk of their activities.⁵ In addition, the OCC expects financial institutions of all sizes to consider and appropriately address all material risks in their operating environment and be resilient to a range of risks.⁶ Further, the OCC expects that all institutions have a formal contingency funding plan that considers a range of possible stress scenarios, assesses the stability of funding during periods of stress, and provides for a broad range of funding sources under adverse conditions.⁷ The duplication of these principles in the Guidelines can be eliminated without undermining the structural integrity of prudential regulation of covered banks.

⁵ Section 39 of the Federal Deposit Insurance Act, 12 U.S.C. 1831p-1 requires the OCC to prescribe safety and soundness standards for insured depository institutions. Such standards were implemented by rule in 12 CFR part 30, appendix A. These guidelines address, among other things, operational and managerial standards relating to (1) internal controls, information systems; (2) internal audit systems; (3) loan documentation; (4) credit underwriting; (5) interest rate risk exposure; (6) asset growth; (7) asset quality; (8) earnings; and (9) compensation.

⁶ See, e.g., the Bank Supervision Process booklet of the Comptroller's Handbook, https://www.occ.gov/publications-and-resources/publications/comptrollers-handbook/files/bank-supervision-process/index-bank-supervision-process.html.

⁷ See Addendum to the Interagency Policy Statement on Funding and Liquidity Risk Management: Importance of Contingency Funding Plans, OCC Bulletin 2023-25, which can be accessed here: https://www.occ.gov/news-issuances/news-releases/2023/nr-ia-2023-82a.pdf; see also Interagency Policy Statement on Funding and Liquidity Risk Management, Federal Reserve SR 10-6 (March 17, 2010), FDIC FIL-13-2010 (April 10, 2010), and OCC Bulletin 2010-13 (March 22, 2010). These individual agency issuances released the 2010 Interagency Policy Statement on Funding and Liquidity Risk Management, which can be accessed here: https://www.govinfo.gov/content/pkg/FR-2010-03-22/pdf/2010-6137.pdf.

Finally, unlike statutorily mandated resolution planning,⁸ there is no statutory requirement that covered banks undertake recovery planning. Rather, the Guidelines impose an unnecessary regulatory burden on covered banks that consumes valuable resources and fails to account for management's ability to assess and manage risks prior to and during periods of stress. Therefore, the OCC is proposing to amend 12 CFR part 30 by rescinding the Guidelines contained in appendix E.

⁸ See 12 U.S.C. 5365.

III. Request for Feedback

Question 1. Should the OCC codify the contingency funding plan expectations set forth in the Interagency Policy Statement on Funding and Liquidity Risk Management and the Addendum to the Interagency Policy Statement on Funding and Liquidity Risk Management: Importance of Contingency Funding Plans? If so, should the codified contingency funding plan requirements apply to all OCC-regulated institutions or a subset of regulated entities? ⁹

⁹ See supra note 7.

IV. Request for Comment

The OCC encourages comment on any aspect of this proposal and especially on the specific issues discussed in this SUPPLEMENTARY INFORMATION section.

V. Regulatory Analysis

Paperwork Reduction Act

Under the Paperwork Reduction Act of 1995 (PRA),¹⁰ the OCC may not conduct or sponsor, and a respondent is not required to respond to, an information collection unless it displays a currently valid Office of Management and Budget (OMB) control number. The OCC has reviewed the notice of proposed rulemaking and determined that it would not create any new or revise any existing, collections of information under the PRA and therefore, require no PRA filings, other than a discontinuance request to OMB for the currently approved “Guidelines Establishing Standards for Recovery Planning by Certain Large Insured National Banks, Insured Federal Savings Associations, and Insured Federal Branches (1557-0333)” information collection following the finalization of the rule.

¹⁰ 44 U.S.C. 3501 et. seq.

Title of Information Collection: OCC Guidelines Establishing Standards for Recovery Planning by Certain Large Insured National Banks, Insured Federal Savings Associations, and Insured Federal Branches.

OMB Control Number: 1557-0333.

Affected Public: Businesses or other for-profit organizations.

Description: Twelve CFR part 30, appendix E, current Guidelines apply to national banks, insured Federal savings associations, and insured Federal branches of foreign banks with total consolidated assets of $100 billion or more. The OMB previously approved the collection of information in the current Guidelines, which are found at paragraphs II.B., II.C., and III. Specifically, paragraph II.B. lists the elements of the recovery plan, which are an overview of the covered bank; triggers; options for recovery; impact assessments; escalation procedures; management reports; communication procedures; and other information. Paragraph II.C. addresses the relationship of the plan to other covered bank processes and coordination with other plans, including the processes and plans of its bank holding company. Paragraph III. outlines management and the board's responsibilities. The Guidelines also include a testing standard, which provides that a covered bank should test its recovery plan.

Additionally, the Guidelines clarify the role of non-financial risk (including operational and strategic risk) in recovery planning.

Current Burden

Frequency of Response: On occasion.

Total Number of Respondents: 21.

Total Burden per Respondent: 32,017 hours.

Total Burden for Collection: 672,360 hours.

Regulatory Flexibility Act

The Regulatory Flexibility Act (RFA), 5 U.S.C. 601 et seq., requires an agency, in connection with a proposed rule, to prepare an Initial Regulatory Flexibility Analysis describing the impact of the rule on small entities (defined by the Small Business Administration (SBA) for purposes of the RFA to include commercial banks and savings institutions with total assets of $850 million or less and trust companies with total assets of $47 million or less) or to certify that the proposed rule would not have a significant economic impact on a substantial number of small entities. However, under section 605(b) of the RFA, this analysis is not required if an agency certifies that the rule would not have a significant economic impact on a substantial number of small entities and publishes its certification and a short explanatory statement in the Federal Register along with its rule.

The OCC certifies that the proposed recission of part 30, appendix E, if adopted, will not have a significant impact on a substantial number of small entities. Twelve CFR part 30, appendix E currently applies to only those insured national bank, insured Federal savings association, or insured Federal branch with average total consolidated assets of $100 billion or more. Therefore, the recission of appendix E would impact no small entities supervised by the OCC. Accordingly, an initial Regulatory Flexibility Analysis is not required.

Unfunded Mandates Reform Act of 1995

The OCC analyzed the proposed rule under the factors set forth in the Unfunded Mandates Reform Act of 1995 (UMRA) (2 U.S.C. 1532). Under this analysis, the OCC considered whether the proposed rule includes a Federal mandate that may result in the expenditure by State, local, and Tribal governments, in the aggregate, or by the private sector, of $100 million or more (currently $187 million, as adjusted annually for inflation) in any one year. The OCC has determined that the cost savings associated with the rescission of the Guidelines' mandates will be approximately $20 million. Therefore, the OCC concludes that the recission of 12 CFR part 30, appendix E, will not result in an expenditure of $187 million or more annually by State, local, and Tribal governments, in the aggregate, or by the private sector.

Riegle Community Development and Regulatory Improvement Act of 1994

Pursuant to section 302(a) of the Riegle Community Development and Regulatory Improvement Act of 1994,¹¹ in determining the effective date and administrative compliance requirements for new regulations that impose additional reporting, disclosure, or other requirements on insured depository institutions, the OCC must consider, consistent with the principles of safety and soundness and the public interest: (1) any administrative burdens that the proposed rule would place on depository institutions, including small depository institutions, and customers of depository institutions and (2) the benefits of the proposed rule. This rulemaking would not impose additional reporting, disclosure, or other requirements on insured depository institutions. Therefore, section 302(a) of the Riegle Community Development and Regulatory Improvement Act of 1994 does not apply to this rulemaking.

¹¹ 12 U.S.C. 4802(a).

Providing Accountability Through Transparency Act of 2023

The Providing Accountability Through Transparency Act of 2023 ¹² requires that a notice of proposed rulemaking include the internet address of a summary of not more than 100 words in length of a proposed rule, in plain language, that shall be posted on the internet website www.regulations.gov.

¹² 12 U.S.C. 553(b)(4).

The proposed rulemaking would rescind the OCC's Guidelines Establishing Standards for Recovery Planning by Certain Large Insured National Banks, Insured Federal Savings Associations, and Insured Federal Branches contained in appendix E of 12 CFR part 30.

The proposal and the required summary can be found at https://www.regulations.gov by searching for Docket ID OCC-2025-0339 and https://occ.gov/topics/laws-and-regulations/occ-regulations/proposed-issuances/index-proposed-issuances.html.

Executive Orders 12866 and 14192

Executive Order 12866, titled “Regulatory Planning and Review,” as amended, provides that the Office of Information and Regulatory Affairs (OIRA), will review all “significant regulatory actions” as defined therein. OIRA has determined that this proposal is not a “significant regulatory action” for purposes of Executive Order 12866.

Executive Order 14192, titled “Unleashing Prosperity Through Deregulation,” separately requires that an agency, unless prohibited by law, identify at least 10 existing regulations to be repealed when the agency publicly proposes for notice and comment or otherwise promulgates a new regulation with total costs greater than zero. Executive Order 14192 further requires that new incremental costs associated with new regulations shall, to the extent permitted by law, be offset by the elimination of existing costs associated with at least ten prior regulations. The OCC expects the proposed rule will be a deregulatory action under Executive Order 14192.

List of Subjects in 12 CFR Part 30

Administrative practice and procedure, National banks, Reporting and recordkeeping requirements.

PART 30—SAFETY AND SOUNDNESS STANDARDS

Appendix E to Part 30 [Removed]

For the reasons stated in the preamble, and under the authority of 12 U.S.C. 93a and 12 U.S.C. 1831p-1, the Office of the Comptroller of the Currency proposes to remove Appendix E to part 30.

Jonathan V. Gould,
Comptroller of the Currency.

[FR Doc. 2025-20199 Filed 11-17-25; 8:45 am]

BILLING CODE 4810-33-P